DEPARTMENT OF EDUCATION

Privacy Act of 1974; System of Records: National Title I Study of Implementation and Outcomes; Early Childhood Language Development

AGENCY: Institute of Education Sciences, Department of Education.

ACTION: Notice of a new system of records.

SUMMARY: In accordance with the Privacy Act of 1974, as amended (Privacy Act), the Department of Education (Department) publishes this notice of a new system of records entitled “National Title I Study of Implementation and Outcomes: Early Childhood Language Development” (18-13-28). The National Center for Education Evaluation and Regional Assistance at the Department's Institute of Education Sciences (IES) awarded a contract in September 2009 to Mathematica Policy Research to conduct the Title I study.

The system of records will contain information on approximately 1,000 teachers, 5,000 students, and 5,000 parents from 100 Title I schools with prekindergarten programs in 11 school districts.

DATES: We must receive your comments on the system of records in this notice on or before December 9, 2013.

The Department filed a report describing the new system of records covered by this notice with the Chair of the Senate Committee on Homeland Security and Governmental Affairs, the Chair of the House Committee on Oversight and Government Reform, and the Administrator of the Office of Information and Regulatory Affairs, Office of Management and Budget (OMB) on October 23, 2013. This system of records will become effective at the later date of: (1) The expiration of the 40-day period for OMB review on December 2, 2013, unless OMB waives 10 days of the 40-day review period for compelling reasons shown by the Department, or (2) December 9, 2013, unless the system of records needs to be changed as a result of public comment or OMB review. The Department will publish any changes to the system of records or routine uses that result from public comment or OMB review.

ADDRESSES: Address all comments about the proposed system of records to Dr. Audrey Pendleton, Associate Commissioner, Evaluation Division, National Center for Education Evaluation and Regional Assistance, Institute of Education Sciences, U.S. Department of Education, 555 New Jersey Avenue NW., Room 502D, Washington, DC 20208-0001. Telephone: (202) 208-7078. If you prefer to send your comments through the Internet, use the following address: comments@ed.gov.

You must include the term “National Title I Study of Implementation and Outcomes: Early Childhood Language Development” in the subject line of the electronic message.

During and after the comment period, you may inspect all public comments about this notice at the U.S. Department of Education in Room 502D, 555 New Jersey Avenue NW., Washington, DC, between the hours of 8:00 a.m. and 4:30 p.m., Washington DC time, Monday through Friday of each week except Federal holidays.

Assistance to Individuals With Disabilities in Reviewing the Rulemaking Record

On request we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Dr. Audrey Pendleton. Telephone: (202) 208-7078. If you use a telecommunications device for the deaf (TDD) or a text telephone (TTY), you may call the Federal Relay Service (FRS), toll free, at 1-800-877-8339.

Individuals with disabilities can obtain this document in an accessible format (e.g., braille, large print, audiotape, or compact disc) on request to the contact person listed in this section.

SUPPLEMENTARY INFORMATION: The Privacy Act (5 U.S.C. 552a) requires the Department to publish in the Federal Register this notice of a new system of records (5 U.S.C. 552a(e)(4) and (e)(11)). The Department's regulations implementing the Privacy Act are contained in part 5b of title 34 of the Code of Federal Regulations (CFR).

The Privacy Act applies to records about individuals that contain individually identifying information that are retrieved by a unique identifier associated with each individual, such as a name or social security number. The information about each individual is called a “record,” and the system, whether manual or computer-based, is called a “system of records.”

The Privacy Act requires the Department to publish a system of records notice in the Federal Register and to prepare and send a report to OMB whenever the Department publishes a new system of records or makes a significant change to an established system of records. The Department is also required to submit reports to the Administrator of the Office of Information and Regulatory Affairs at OMB, the Chair of the Senate Committee on Homeland Security and Governmental Affairs, and the Chair of the House of Representatives Committee on Oversight and Government Reform. These reports are intended to permit an evaluation of the probable effect of the proposal on the privacy rights of individuals.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: October 23, 2013.
John Q. Easton,
Director, Institute of Education Sciences.

For the reasons discussed in the preamble, the Director of the Institute of Education Sciences, U.S. Department of Education, publishes a notice of a new system of records to read as follows:

18-13-28

SYSTEM NAME:

National Title I Study of Implementation and Outcomes: Early Childhood Language Development.

SECURITY CLASSIFICATION:

None.

SYSTEM LOCATIONS:

(1) Evaluation Division, National Center for Education Evaluation and Regional Assistance, Institute of Education Sciences (IES), U.S. Department of Education, 555 New Jersey Avenue NW., Room 502D, Washington, DC 20208-0001.

(2) Mathematica Policy Research, Inc., 600 Alexander Park, Suite 100, Princeton, NJ 08540 (contractor).

CATEGORIES OF INDIVIDUALS COVERED BY THE SYSTEM:

The system will contain information on approximately 1,000 teachers, 5,000 students, and 5,000 parents from 100 Title I schools with prekindergarten programs in 11 school districts.

CATEGORIES OF RECORDS IN THE SYSTEM:

The system of records will include personally identifying information about the sampled students in participating schools, including name; demographic information such as race, ethnicity, gender, and age; information on attendance; receipt of special education services; grade repetition; and scores on reading and language assessments. The system of records will also include personally identifying information about the parents of participating students, including names. The system of records will also include personally identifying information about the teachers participating in the evaluation, including name; demographic information, such as race, ethnicity, and gender; educational background; and teaching experience.

AUTHORITY FOR MAINTENANCE OF THE SYSTEM:

The evaluation is authorized under sections 171(b) and 173 of the Education Sciences Reform Act of 2002 (ESRA) (20 U.S.C. 9561(b) and 9563), and section 1501 of the Elementary and Secondary Education Act (ESEA), as reauthorized by the No Child Left Behind Act of 2001 (20 U.S.C. 6491). The grant programs that are the subject of this evaluation are authorized under sections 1111-1127 of Part A of Title I of the ESEA (20 U.S.C. 6311-6339).

PURPOSE(S):

The information contained in the records maintained in this system is used for the following purpose:

To identify and describe school supports and instructional practices associated with improved language development, background knowledge, and comprehension outcomes for children in prekindergarten through third grade. The study will address the following research questions:

(1) What practices do Title I schools use to support children's language development, background knowledge, and comprehension in prekindergarten through 3rd grade?

(2) What classroom instructional practices do teachers in Title I schools use to support children's language development, background knowledge, and comprehension in prekindergarten through 3rd grade?

(3) How do students' language skills, background knowledge, and comprehension develop in Title I schools between prekindergarten and 3rd grade?

(4) What school supports and classroom practices are associated with children's development of language skills, background knowledge, and comprehension in prekindergarten through 3rd grade in Title I schools?

ROUTINE USES OF RECORDS MAINTAINED IN THE SYSTEM, INCLUDING CATEGORIES OF USERS AND THE PURPOSES OF SUCH USES:

The Department of Education (Department) may disclose information contained in a record in this system of records under the routine uses listed in this system of records without the consent of the individual if the disclosure is compatible with the purposes for which the record was collected. These disclosures may be made on a case-by-case basis or, if the Department has complied with the computer matching requirements of the Privacy Act of 1974, as amended (Privacy Act), under a computer matching agreement. Any disclosure of individually identifiable information from a record in this system must also comply with the requirements of section 183 of the ESRA (20 U.S.C. 9573) providing for confidentiality standards that apply to all collections, reporting, and publication of data by IES.

(1) Research Disclosure. The Director of IES may disclose information from this system of records to qualified researchers solely for the purpose of carrying out specific research that is compatible with the purpose of this system of records. The researcher shall be required to maintain safeguards with respect to such records under the Privacy Act and the ESRA. When personally identifiable information from a student's education record, which is protected pursuant to the Family Educational Rights and Privacy Act (FERPA), 20 U.S.C. 1232g, will be disclosed to the researcher, the researcher also must comply with the requirements in the applicable FERPA exception to consent.

(2) Contract Disclosure. If the Department contracts with an entity to perform any function that requires disclosing records in this system to the contractor's employees, the Department may disclose the records to those employees who have received the appropriate level of security clearance from the Department. Before entering into such a contract, the Department will require the contractor to establish and maintain the safeguards required under the Privacy Act (5 U.S.C. 552a(m)) with respect to the records in the system.

DISCLOSURE TO CONSUMER REPORTING AGENCIES:

None.

POLICIES AND PRACTICES FOR STORING, RETRIEVING, ACCESSING, RETAINING, AND DISPOSING OF RECORDS IN THE SYSTEM:

STORAGE:

The Department maintains records on CD-ROM, and the contractor (Mathematica Policy Research, Inc.) maintains data for this system on computers and in hard copy.

RETRIEVABILITY:

Records in this system are indexed and retrieved by a number assigned to each individual that is cross-referenced by the individual's name on a separate list.

SAFEGUARDS:

All physical access to the Department's site and to the sites of the Department's contractor, where this system of records is maintained, is controlled and monitored by security personnel. The computer system employed by the Department offers a high degree of resistance to tampering and circumvention. This security system limits data access to Department and contract staff on a need-to-know basis, and controls individual users' ability to access and alter records within the system. The contractor will establish a similar set of procedures at its site to ensure confidentiality of data. The contractor is required to ensure that information identifying individuals is in files physically separated from other research data. The contractor will maintain security of the complete set of all master data files and documentation. Access to individually identifying data will be strictly controlled. All data will be kept in locked file cabinets during nonworking hours, and work on hardcopy data will take place in a single room, except for data entry. Physical security of electronic data will also be maintained. Security features that protect project data include: Password-protected accounts that authorize users to use the contractor's systems but to access only specific network directories and network software; user rights and directory and file attributes that limit those who can use particular directories and files and determine how they can use them; and additional security features that the network administrators will establish for projects as needed. The contractor's employees who “maintain” (collect, maintain, use, or disseminate) data in this system shall comply with the requirements of the confidentiality standards in section 183 of the ESRA (20 U.S.C. 9573).

RETENTION AND DISPOSAL:

Records are maintained and disposed of in accordance with the Department's Records Disposition Schedules ED 068.a (NARA Job Number: N1-441-08-18).

SYSTEM MANAGER AND ADDRESS:

Associate Commissioner, Evaluation Division, National Center for Education Evaluation and Regional Assistance, Institute of Education Sciences, U.S. Department of Education, 555 New Jersey Avenue NW., Room 502D, Washington, DC 20208.

NOTIFICATION PROCEDURE:

If you wish to determine whether a record exists regarding you in the system of records, contact the systems manager. Your request must meet the requirements of regulations at 34 CFR 5b.5, including proof of identity.

RECORD ACCESS PROCEDURE:

If you wish to gain access to your record in the system of records, contact the system manager. Your request must meet the requirements of regulations at 34 CFR 5b.5, including proof of identity.

CONTESTING RECORD PROCEDURE:

If you wish to contest the content of a record regarding you in the system of records, contact the system manager. Your request must meet the requirements of the regulations at 34 CFR 5b.7, including proof of identity.

RECORD SOURCE CATEGORIES:

This system contains records on parents, teachers, and students participating in a study of early childhood language development in Title I schools. Data will be obtained from assessments administered to students and surveys of teachers.

EXEMPTIONS CLAIMED FOR THE SYSTEM:

None.

[FR Doc. 2013-26748 Filed 11-6-13; 8:45 am]

BILLING CODE 4000-01-P